DEPARTMENT OF COMMERCE

National Oceanic and Atmospheric Administration

RIN 0648-XG041

Programmatic Environmental Impact Statement (PEIS) for the Marine Mammal Health and Stranding Response Program

AGENCY: National Marine Fisheries Service (NMFS), National Oceanic and Atmospheric Administration (NOAA), Commerce.

ACTION: Notice of intent to prepare a PEIS; request for comments.

SUMMARY: Pursuant to the National Environmental Policy Act (NEPA) and the Council on Environmental Quality Regulations (CEQ), the National Marine Fisheries Service (NMFS) announces its intention to prepare a Programmatic Environmental Impact Statement (PEIS) to evaluate potential environmental effects associated with continued implementation of the Marine Mammal Health and Stranding Response Program (MMHSRP). In addition, this PEIS will address changes to increase efficiencies made in the program since the initial MMHSRP PEIS was published in 2009. These updates include changes to the Best Practices for Marine Mammal Stranding Response, Rehabilitation and Release (Policies and Practices), as well as other aspects of the program including large whale entanglement response, health surveillance, research, morbidity and mortality investigations, and assessments.

DATES: Comments must be received by June 1, 2018. Scoping meetings are scheduled as follows:

1. May 1, 2018, 3 p.m. EDT—Webinar (Registration Required)

2. May 15, 2018, 3:30 p.m. EDT—Webinar (Registration Required)

3. May 18, 2018, 3 p.m. EDT—(valid ID compliant with the REAL ID Act required)—NOAA Science Center, 1301 East-West Highway, Silver Spring, MD

4. May 21, 2018, 10:30 a.m. EDT—Webinar (Registration Required)

ADDRESSES: Those wishing to attend either the webinars or in-person meeting must register at https://mmhsrp-peis.eventbrite.com. Valid ID that is compliant with the REAL ID Act is required to attend the in-person scoping meeting on May 18, 2018. Further information on types of ID that comply with this Act can be found at https://www.dhs.gov/real-id-public-faqs. Foreign nationals wishing to attend the in-person meeting must contact Stephen Manley 30 days in advance.

NMFS invites comments from all interested parties regarding the scope and content of a PEIS for changes and updates to the MMHSRP. For additional background and reference, the previous MMHSRP PEIS published in 2009 is available in electronic form via the internet at https://repository.library.noaa.gov/view/noaa/4939. Comments may be submitted using either of the following methods:

Federal e-Rulemaking Portal: Go to www.regulations.gov/#!docketDetail;D=NOAA-NMFS-2018-0036, click the “Comment Now!” icon, complete the required fields and enter or attach your comments.

Mail: Send comments to: Chief, Marine Mammal and Sea Turtle Conservation Division, Office of Protected Resources, National Marine Fisheries Service, 1315 East-West Highway, Silver Spring, MD 20910-3226, Attn: MMHSRP PEIS.

Instructions: NMFS may not consider comments if they are sent by any other method, to any other address or individual, or received after the comment period ends. All comments received are a part of the public record and will generally be posted to http://www.regulations.gov without change. All personal identifying information (e.g., name, address, etc.), confidential business information, or otherwise sensitive information submitted voluntarily by the sender is publicly accessible. NMFS will also accept anonymous comments (enter “N/A” in the required fields if you wish to remain anonymous).

FOR FURTHER INFORMATION CONTACT: Stephen Manley, NMFS, Office of Protected Resources, 301-427-8402, Stephen.Manley@noaa.gov.

SUPPLEMENTARY INFORMATION:

Background

Pursuant to Title IV of the Marine Mammal Protection Act (MMPA; 16 U.S.C. 1421), NMFS implements the MMHSRP. The mandated goals and purposes of the MMHSRP are to: (1) Facilitate the collection and dissemination of reference data on the health of marine mammals and health trends of marine mammal populations in the wild; (2) correlate the health of marine mammals and marine mammal populations in the wild, with available data on physical, chemical, and biological environmental parameters; and (3) coordinate effective responses to unusual mortality events in accordance with section 404 of the MMPA.

To meet the goals of the MMPA, the MMHSRP carries out several important activities, including: Coordinating the National Marine Mammal Stranding Network, the John H. Prescott Marine Mammal Rescue Assistance Grant Program, the National Marine Mammal Entanglement Response Program, the Marine Mammal Unusual Mortality Event and Emergency Response Programs, the Marine Mammal Biomonitoring Program, the Marine Mammal Tissue Bank, the Marine Mammal Analytical Quality Assurance Program, the MMHSRP Information Management Program, and the facilitation of several regional health assessment programs on wild marine mammals.

Individuals, groups and organizations throughout the country have been responding to stranded marine mammals for decades. After the passage of Title IV of the MMPA in 1992, NMFS began the process of codifying the roles, responsibilities, and activities of participant organizations in the National Marine Mammal Stranding Network through a Stranding Agreement (SA), issued under MMPA section 112(c) (16 U.S.C. 1382) and through the 109(h) authority for Federal, state, and local government employees (16 U.S.C. 1379). By issuing SAs under section 112(c), NMFS allows stranding network response organizations, acting as agents of the government, an exemption to the prohibition on takes of marine mammals established under the MMPA. A standardized national template for SAs was developed, including sections that may be customized by each region in order to maintain flexibility. NMFS also developed a list of minimum criteria for organizations wishing to obtain a SA and participate in the stranding network. NMFS proposes to modify both the template and the list of minimum criteria to become a member of the stranding network. Additionally, NMFS has national protocols to help standardize the stranding network across the country while maintaining regional flexibility where appropriate. These protocols, as well as the SAs and minimum criteria, were analyzed in the initial PEIS and were issued in 2009 as one consolidated manual, titled “Policies and Best Practices for Marine Mammal Stranding Response, Rehabilitation and Release” (Policies and Practices). The MMHSRP will update these documents to reflect the information gained from and the developments in marine mammal emergency response that have occurred over the past decade, and would like to identify the scope of issues that should be addressed.

Stranded marine mammals undergoing rehabilitation and the facilities conducting rehabilitation activities are not subject to inspection or review by the Animal and Plant Health Inspection Service (APHIS) under the United States Department of Agriculture, if they are not also a public display facility (separate from their rehabilitation activities) or a research facility. These facilities are therefore not subject to APHIS minimum requirements for facilities, husbandry, or veterinary standards. Previously, NMFS developed minimum standards for marine mammal rehabilitation facilities that are required of all facilities operating under a SA with NMFS. Additionally, section 402(a) (16 U.S.C. 1421a) of the MMPA charges NMFS with providing guidance for determining at what point a rehabilitated marine mammal is releasable to the wild. Standards for release of rehabilitated marine mammals were developed by NMFS and are part of the Policies and Practices document. NMFS proposes to review the rehabilitation guidelines, as well as the criteria for release of rehabilitated marine mammals into the wild and update these documents, as necessary.

In addition, the MMHSRP maintains a permit from the NMFS Office of Protected Resources Permits and Conservation, issued under the MMPA (16 U.S.C. 1361 et seq.) and the ESA (16 U.S.C. 1531 et seq.). The permit authorizes the MMHSRP to carry out stranding and entanglement response, rescue, rehabilitation, and release of threatened and endangered marine mammals and conduct health-related scientific research studies on marine mammals and marine mammal parts. The current permit issued to the MMHSRP will expire on June 30, 2020. For additional information about the MMHSRP, the national stranding network, and other related information, please visit our website at https://www.fisheries.noaa.gov/national/marine-life-in-distress/marine-mammal-health-and-stranding-response-program.

NEPA, CEQ Regulations (40 CFR 1500.4(i), 1502.4 and 1502.20) and NOAA Administrative Order (NAO) 216-6A require all proposals for major actions to be reviewed with respect to environmental consequences on the human environment and encourage the use of programmatic NEPA documents and tiering to streamline decision making in a process that progresses from programmatic analyses to site-specific reviews. NMFS determined a programmatic approach is appropriate because multiple activities are conducted in support of the MMHSRP and activities occur nationally, over large geographical areas. Therefore, the analysis in the PEIS will support NMFS planning-level decisions associated with oversight and implementation of the MMHRSP and establish the framework and parameters for subsequent analyses based on the programmatic review. In addition, NMFS will rely on this PEIS for permitted activities as well as the basis for tiering in site-specific NEPA review.

Purpose and Scope of the Action

NMFS is proposing to continue coordinating and implementing the MMHSRP. Using a programmatic approach, NMFS will identify and prepare a qualitative analysis of environmental impacts covering a range of activities conducted in support of the MMHSRP program, including the issuance of revised Policies and Best Practices, revised protocols and procedures, and a new MMPA/ESA permit for this program. Resource areas to be addressed in this analysis include, but are not limited to, biological resources (notably marine mammals, threatened and endangered species, fish and other wildlife species and their habitat), sediments and water quality, historic and cultural resources, socioeconomics and tourism, and public health and safety. This PEIS will supersede the initial PEIS published in 2009 and will assess the potential environmental effects of marine mammal health and stranding response under a range of alternatives characterized by different methods, mitigation measures, and level of response. For all potentially significant impacts, the proposed PEIS will identify avoidance, minimization and mitigation measures to reduce these impacts, where feasible, to a level below significance.

The scoping process will be used to identify public concerns along with national and local issues to be addressed in the PEIS. Federal agencies, state agencies, local agencies, Native American Indian Tribes and Nations, the public, and interested persons are encouraged to identify specific issues or topics of environmental concern that NMFS should consider. Public participation is invited by providing written comments to NMFS and/or attending the scoping meetings and webinars.

Special Accommodations

The in-person meeting is physically accessible to people with disabilities. Requests for sign language interpretation or other auxiliary aids should be directed to Stephen Manley (see ADDRESSES) at least 5 days prior to the meeting date.

Dated: March 28, 2018.
Elaine T. Saiz,
Acting Deputy Director, Office of Protected Resources, National Marine Fisheries Service.

[FR Doc. 2018-06611 Filed 3-30-18; 8:45 am]

BILLING CODE 3510-22-P